COMMITTEE FOR PURCHASE FROM PEOPLE WHO ARE BLIND OR SEVERELY DISABLED

Clarification of Scope of Procurement List Additions; 2007 Commodities Procurement List; Quarterly Update of the A-List and Movement of Products Between the A-List, B-List and C-List

AGENCY: Committee for Purchase From People Who Are Blind or Severely Disabled.

ACTION: Publication of the quarterly update of the A-list and movement of products between the A-list, B-list and C-list as of July 1, 2007.

SUMMARY: The Committee for Purchase From People Who Are Blind or Severely Disabled, in accordance with the procedures published on December 1, 2006 (71 FR 69535-69538), has updated the scope of the Program's procurement preference requirements for the products listed below between and among the Committee's A-list, B-list and C-list. A-list products are suitable for the Total Government Requirement as aggregated by the General Services Administration, the B-list are those products suitable for the Broad Government Requirement as aggregated by the General Services Administration, and C-list products are suitable for the requirements of one or more specified agency(ies). The lists below track changes to A-, B-, C-designations that occurred between March 2, 2007 and June 1, 2007. If not currently available, the products listed below as being included on the A-list will be available for purchase through the GSA Global Supply system and JWOD-authorized commercial distributors on or about July 1, 2007.

DATES: The effective date for the quarterly update of the A-list and movement of products between and among the A-list, B-list and C-list is July 1, 2007.

ADDRESSES: Committee for Purchase From People Who Are Blind or Severely Disabled, Jefferson Plaza 2, Suite 10800, 1421 Jefferson Davis Highway, Arlington, Virginia 22202-3259.

FOR FURTHER INFORMATION CONTACT: Emily A. Covey, Telephone: (703) 603-7740, Fax: (703) 603-0655, or e-mail cmtefedreg@jwod.gov.

Products moved from B-list to A-list:

7510-01-431-6236 Binder, Loose-leaf.

7510-01-431-6244 Binder, Loose-leaf.

7510-01-431-6521 Inking Pad, Rubber Stamp.

7510-01-435-9775 Inking Pad.

7510-01-435-9776 Inking Pad.

7510-01-467-6738 Clip, Paper.

7520-01-431-6240 Perforator, Paper, Desk, 3-Hole, Heavy-Duty, Black.

7520-01-457-0719 File, Horizontal Desk.

7520-01-457-0721 File, Horizontal Desk.

7520-01-457-0723 File, Horizontal Desk.

7520-01-457-0724 File, Horizontal Desk.

7520-01-457-0725 File, Horizontal Desk.

7520-01-457-0726 File, Horizontal Desk.

7530-01-463-3908 Envelope, Inter-Departmental.

7530-01-463-3910 Envelope, Inter-Departmental.

8455-01-545-3657 Retractable I. D. Card Reel.

Products moved from C-list to A-list:

7510-00-161-4240 Stamp Pad Ink—Red Applicator Bottle.

7510-01-207-3959 Refill Ink—Blue 10 ml.

7510-01-207-3960 Refill Ink—Red 10 ml.

7510-01-207-3961 Refill Ink—Black 10 ml.

7520-01-207-4108 Stock Title Stamp COPY—Red.

7520-01-207-4202 Stock Title Stamp ENTERED—Blue.

7520-01-207-4222 Stock Title Stamp ORIGINAL—Blue.

7520-01-207-4231 Stock Title Stamp RECEIVED—Red.

7520-01-352-3019 2000 Plus Small Line Dater—Black.

7520-01-419-5949 Stock Title Stamp CONFIDENTIAL—Red.

Products moved from A-list to B-list:

None.

Products moved from A-list to C-list:

None.

Products moved from B-list to C-list:

None.

Products moved from C-list to B-list:

4235-01-441-0246 Sorbents, Chemical and Oil.

4235-01-441-0248 Sorbents, Chemical and Oil.

4235-01-451-8744 Sorbents, Chemical and Oil.

4235-01-453-5159 Sorbents, Chemical and Oil.

4235-01-456-8571 Sorbents, Chemical and Oil.

4235-01-456-8575 Sorbents, Chemical and Oil.

4235-01-456-8858 Sorbents, Chemical and Oil.

4235-01-456-8862 Sorbents, Chemical and Oil.

4235-01-456-9893 Sorbents, Chemical and Oil.

4235-01-456-9899 Sorbents, Chemical and Oil.

4235-01-457-0031 Sorbents, Chemical and Oil.

4235-01-457-0421 Sorbents, Chemical and Oil.

4235-01-457-0431 Sorbents, Chemical and Oil.

4235-01-457-0518 Sorbents, Chemical and Oil.

4235-01-457-0658 Sorbents, Chemical and Oil.

4235-01-457-0663 Sorbents, Chemical and Oil.

4235-01-457-0677 Sorbents, Chemical and Oil.

4235-01-457-0678 Sorbents, Chemical and Oil.

7350-01-411-5265 Cups, Disposable.

7520-00-264-3718 Rubber Stamp Printing Set.

7520-01-207-4111 Stock Title Stamp COMPLETED—Red.

7520-01-207-4116 Stock Title Stamp DRAFT—Red.

7520-01-207-4118 Stock Title Stamp TOP SECRET—Red.

7520-01-207-4119 Stock Title Stamp SECRET—Red.

7520-01-207-4150 Stock Title Stamp C.O.D.—Red.

7520-01-207-4151 6 S-226 Band Numberer.

7520-01-207-4188 R40 Time Stamp 12-Hour.

7520-01-207-4190 Stamp Tray-Small.

7520-01-207-4194 Stock Title Stamp COPY—Blue.

7520-01-207-4196 Stock Title Stamp APPROVED—Blue.

7520-01-207-4204 Stock Title Stamp PRIORITY—Red.

7520-01-207-4205 Stock Title Stamp EXPEDITE—Red.

7520-01-207-4206 Stock Title Stamp SPECIAL—Red.

7520-01-207-4207 Stock Title Stamp POSTED—Red.

7520-01-207-4209 Stock Title Stamp FILE—Red.

7520-01-207-4211 Stock Title Stamp DRAFT—Black.

7520-01-207-4212 Stock Title Stamp COPY FOR YOUR INFORMATION—Red.

7520-01-207-4216 Stock Title Stamp URGENT—Red.

7520-01-207-4226 Stock Title Stamp RECEIVED—Blue.

7520-01-207-4228 Stock Title Stamp CANCELLED—Blue.

7520-01-207-4242 Stock Title Stamp UNCLASSIFIED—Red.

7520-01-324-6955 Stock Title Stamp COMPLETED—Blue.

7520-01-352-3018 2000 Plus Line Dater—Red.

7520-01-386-2444 Stamp, Custom Order Kit (Coupon).

7930-00-NIB-0214 3M Twist N Fill Dispensing System—Floor Stripper, Low Odor.

7930-00-NIB-0216 3M Twist N Fill Dispensing System—3 in 1 Floor Cleaner.

7930-00-NIB-0267 3M Twist N Fill Dispensing System—HB Quat Disinfectant Cleaner.

7930-01-381-5794 3M Twist N Fill Dispensing System—Heavy Duty Aircraft Cleaner.

7930-01-381-5820 3M Twist N Fill Dispensing System—Bathroom Cleaner.

7930-01-381-5826 3M Twist N Fill Dispensing System—Glass Cleaner.

7930-01-381-5834 3M Twist N Fill Dispensing System—General Purpose Cleaner.

7930-01-381-5897 3M Twist N Fill Dispensing System—Neutral Cleaner.

7930-01-381-5936 3M Twist N Fill Dispensing System—Food Service Degreaser.

7930-01-381-5997 3M Twist N Fill Dispensing System—Heavy Duty Multi Surface Cleaner.

7930-01-412-1033 3M Twist N Fill Dispensing System—Fresh Scent Deodorizer.

7930-01-412-1034 3M Twist N Fill Dispensing System—Mountain Spice Deodorizer.

7930-01-412-1036 3M Twist N Fill Dispensing System—Sanitizer Cleaner.

7930-01-436-7950 3M Twist N Fill Dispensing System—Phenolic Disinfectant.

7930-01-436-8083 3M Twist N Fill Dispensing System—Non Acid Bathroom Cleaner.

The complete A-list is available at http://www.jwod.gov/jwod/p_and_s/alist2007.htm.

Patrick Rowe,
Deputy Executive Director.

[FR Doc. E7-11171 Filed 6-7-07; 8:45 am]

BILLING CODE 6353-01-P